DEPARTMENT OF ENERGY

Federal Energy Regulatory Commission

Combined Notice of Filings #1

October 3, 2005.

Take notice that the Commission received the following electric rate filings.

Docket Numbers: ER01-931-005; ER05-1178-002; ER01-930-005; ER05-1191-002.

Applicants: Entegra Power Group LLC.

Description: Entegra Power Group LLCfiled a response to FERC's 8/30/05 deficiency letter.

Filed Date: 09/28/2005.

Accession Number: 20050930-0001.

Comment Date: 5 p.m. eastern time on Wednesday, October 19, 2005.

Docket Numbers: ER05-1225-003.

Applicants: New York Industrial Energy Buyers, LLC.

Description: New York Industrial Energy Buyers, LLC submits an amendment to its 8/3/05 application for market-based rates.

Filed Date: 09/28/2005.

Accession Number: 20050930-0008.

Comment Date: 5 p.m. eastern time on Wednesday, October 19, 2005.

Docket Numbers: ER05-1226-002.

Applicants: New York Commercial Energy Buyers, LLC.

Description: New York Industrial Energy Buyers, LLC submits an amendment change to its 8/3/05 application for market-based rates.

Filed Date: 09/28/2005.

Accession Number: 20050930-0009.

Comment Date: 5 p.m. eastern time on Wednesday, October 19, 2005.

Docket Numbers: ER05-1328-001.

Applicants: Central Maine Power Company.

Description: Central Maine Power Co submits a revision to an unexecuted Local Network Agreements with Newark Group Gardiner Paperboard.

Filed Date: 09/28/2005.

Accession Number: 20050930-0010.

Comment Date: 5 p.m. eastern time on Wednesday, October 19, 2005.

Docket Numbers: ER05-1510-000.

Applicants: Northeast Utilities Service Company.

Description: Northeast Utilities Service Co on behalf of Connecticut Light and Power Co et al submits a notice of termination to the Power Supply Agreement with Princeton Municipal Electric Department.

Filed Date: 09/27/2005.

Accession Number: 20050928-0216.

Comment Date: 5 p.m. eastern time on Tuesday, October 18, 2005.

Docket Numbers: ER05-1511-000.

Applicants: Noble Thumb Windpark I, LLC.

Description: Noble Thumb Windpark I LLC submits its application for Order Accepting Initial Rate Schedule, Waiving Regulations, and Granting Blanket Approvals and Request for Expedited Considerations.

Filed Date: 09/28/2005.

Accession Number: 20050930-0005.

Comment Date: 5 p.m. eastern time on Wednesday, October 19, 2005.

Docket Numbers: ER05-1512-000.

Applicants: PJM Interconnection L.L.C.

Description: PJM Interconnection, LLC submits an executed interconnection service agreement with Wellington Development-WDVT, LLC and West Penn Power Co. dba Allegheny Power.

Filed Date: 09/28/2005.

Accession Number: 20050930-0014.

Comment Date: 5 p.m. eastern time on Wednesday, October 19, 2005.

Docket Numbers: ER05-1514-000.

Applicants: Southern Company Services, Inc.

Description: Southern Company Services, Inc on behalf of Southern Companies submits an informational filing to update FERC Annual Charge component.

Filed Date: 09/28/2005.

Accession Number: 20050930-0012.

Comment Date: 5 p.m. eastern time on Wednesday, October 19, 2005.

Docket Numbers: ER05-1515-000.

Applicants: Texas Retail Energy, LLC.

Description: Application of Texas Retail Energy LLC for order accepting market-based rate tariff for filing granting waivers and blanket approvals.

Filed Date: 09/28/2005.

Accession Number: 20050930-0003.

Comment Date: 5 p.m. eastern time on Wednesday, October 19, 2005.

Docket Numbers: ER05-651-003.

Applicants: Southwest Power Pool, Inc.

Description: Southwest Power Pool, Inc submits a revised version of the Large Generator Interconnection Agreement with FPL Energy Cowboy Wind, LLC et al pursuant to Commission Order issued 8/25/05.

Filed Date: 09/27/2005.

Accession Number: 20050929-0088.

Comment Date: 5 p.m. eastern time on Tuesday, October 18, 2005.

Docket Numbers: ER95-1441-022.

Applicants: ConocoPhillips Company.

Description: ConocoPhillips Co submits amended triennial market power analysis and revision to FERC Electric Tariff No. 1.

Filed Date: 09/22/2005.

Accession Number: 20050930-0208.

Comment Date: 5 p.m. eastern time on Thursday, October 13, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5547 Filed 10-7-05; 8:45 am]

BILLING CODE 6717-01-P